DEPARTMENT OF EDUCATION

[CFDA No.: 84.282A]

Office of Elementary and Secondary Education; Public Charter Schools Program—Field-Initiated National Activities Projects Notice Inviting Applications for New Awards for Fiscal Year (FY) 2001

Purpose of Program: The purpose of the Public Charter Schools Program (PCSP) is to increase national understanding of the charter schools model by providing financial assistance for the planning, program design, and initial implementation of charter schools; evaluating the effects of charter schools; and disseminating information about charter schools and successful practices in charter schools.

Eligible Applicants: State and local educational agencies, public and private nonprofit organizations, institutions of higher education, authorized public chartering agencies, charter school developers, and public schools, including public charter schools. Eligible applicants may also apply as a group, or consortium.

Applications Available: May 30, 2001.

Application packages will be available by mail and electronically on the World Wide Web at the following sites:

http://www.ed.gov/GrantApps

http://www.uscharterschools.org

Deadline for Transmittal of Applications: July 16, 2001.

Estimated Available Funds: $4 million.

Estimated Range of Awards: The size of awards will be commensurate with the nature and scope of the work proposed.

Estimated Average Size of Awards: $200,000-$400,000 per year.

Estimated Number of Awards: 10-20.

Note: These estimates are projections for the guidance of potential applicants. The Department is not bound by any estimates in this notice.

Budget Period: 12 months.

Project Period: Up to 24 months.

Page Limit: The application narrative may not exceed the equivalent of 20 double-spaced pages, with printing on only one side of 8½ x 11-inch paper. Our reviewers will not read any pages of your application that —

• Exceed the page limit if you apply these standards; or

• Exceed the equivalent of the page limit if you apply other standards.

Thus, we will remove all pages in excess of the 20-page narrative maximum or its equivalent.

Note: We have found that reviewers are able to conduct the highest quality review when applications are concise and easy to read. We strongly encourage applicants to use a 12-point or larger size font, one-inch margins at the top, bottom, and both sides, and pages numbered consecutively.

SUPPLEMENTARY INFORMATION: Section 10305 of the ESEA (National Activities) authorizes the Secretary to award grants under the PCSP to carry out national activities. For FY 2001, the Department is holding a grant competition for field-initiated national activities projects. Grants for national activities projects under the PCSP are highly competitive. Strong applications for national activities grants clearly address each of the applicable selection criteria. They make a well-reasoned and compelling case for the national significance of the problems or issues that will be the subject of the proposed project, and present a project design that is complete, clearly delineated, and incorporates sound implementation methods. In addition, the personnel descriptions included in strong applications make it apparent that the project director, principal investigator, and other key personnel possess training and experience commensurate with their duties.

The project period of the grant may be from one to two years. In the application, the project period should be divided into 12-month budget periods. Each 12-month budget should be clearly delineated and justified in terms of the proposed activities.

Allowable Activities: The following are examples of the types of projects that could be supported with a national activities grant under the PCSP (for the specific national activities authorized under the PCSP, see section 10305(a) of the ESEA (20 U.S.C. 8065(a)):

(1) Access to Federal Funds. Disseminate information to charter schools about federal programs in which they may be eligible to participate and provide technical assistance to charter schools in applying for federal funds.

(2) Research. Conduct evaluations or studies on various issues concerning charter schools, such as student achievement, teacher qualifications and retention, and the demographic makeup (e.g., age, race, gender, disability, limited-English proficiency, and previous public or private school enrollment) of charter school students.

(3) Technical Assistance and Planning. Assist charter school developers with all aspects of planning, designing, and implementing a charter school. Some areas in which newly created charter schools face challenges include program design, curriculum development, defining the school's mission, hiring staff, drafting charter applications, student recruitment and admissions, public relations and community involvement, governance, acquiring equipment and services, budget and finances, facilities, assessment and accountability, parental involvement, serving students with disabilities, and collaborating with other entities to provide quality instruction and services.

(4) Best or Promising Practices. Disseminate information on best or promising practices in charter schools to other public schools, including charter schools.

(5) Facilities. Disseminate information about programs and financial resources available to charter schools for facilities, including information about successful programs and how charter schools can access private capital.

Collaboration: We encourage collaboration in the development of these projects. For example, charter school resource centers may collaborate with successful charter schools to disseminate information about the charter school's program; authorized institutions of higher education may collaborate with authorized public chartering agencies to develop methods for assessing student achievement in charter schools; and charter schools may collaborate with each other to establish networks to address some of the implementation issues facing newly created charter schools.

Selection Criteria: The Secretary uses the selection criteria published in 34 CFR 75.210 to evaluate applications for grants under the field-initiated national activities competition for FY 2001. The application package includes the specific SELECTION CRITERIA and the points assigned to each criterion.

Applicable Regulations and Statute: The Education Department General Administrative Regulations (EDGAR) in 34 CFR parts 75, 76, 77, 79, 80, 81, 82, 85, 86, 97, and 99. Title X, part C, Elementary and Secondary Education Act of 1965 (ESEA), as amended, 20 U.S.C. 8061-8067.

The following definitions are taken from the PCSP authorizing statute, in title X, part C of the ESEA. They are being repeated in this application notice for the convenience of the applicant.

Definitions

The following definitions apply to this program:

(a) Charter school means a public school that

(1) In accordance with a specific State statute authorizing the granting of charters to schools, is exempted from significant State or local rules that inhibit the flexible operation and management of public schools, but not from any rules relating to the other requirements of this definition;

(2) Is created by a developer as a public school, or is adapted by a developer from an existing public school, and is operated under public supervision and direction;

(3) Operates in pursuit of a specific set of educational objectives determined by the school's developer and agreed to by the authorized public chartering agency;

(4) Provides a program of elementary or secondary education, or both;

(5) Is nonsectarian in its programs, admissions policies, employment practices, and all other operations, and is not affiliated with a sectarian school or religious institution;

(6) Does not charge tuition;

(7) Complies with the Age Discrimination Act of 1975, title VI of the Civil Rights Act of 1964, title IX of the Education Amendments of 1972, section 504 of the Rehabilitation Act of 1973, and part B of the Individuals With Disabilities Education Act;

(8) Is a school to which parents choose to send their children, and that admits students on the basis of a lottery, if more students apply for admission than can be accommodated;

(9) Agrees to comply with the same Federal and State audit requirements as do other elementary and secondary schools in the State, unless the requirements are specifically waived for the purposes of this program;

(10) Meets all applicable Federal, State, and local health and safety requirements;

(11) Operates in accordance with State law; and

(12) Has a written performance contract with the authorized public chartering agency in the State that includes a description of how student performance will be measured in charter schools pursuant to State assessments that are required of other schools and pursuant to any other assessments mutually agreeable to the authorized public chartering agency and the charter school.

(b) Developer means an individual or group of individuals (including a public or private nonprofit organization), which may include teachers, administrators and other school staff, parents, or other members of the local community in which a charter school project will be carried out.

(c) Eligible applicant means an authorized public chartering agency participating in a partnership with a developer to establish a charter school in accordance with title X, part C of the ESEA.

(d) Authorized public chartering agency means a State educational agency, local educational agency, or other public entity that has the authority under State law and is approved by the Secretary to authorize or approve a charter school.

For Applications and Further Information Contact: Donna M. Hoblit, U.S. Department of Education, 400 Maryland Avenue, SW., Room 3C148, Washington, DC 20202-6140. Telephone (202) 205-9178. Internet address: Donna.Hoblit@ed.gov

Individuals who use a telecommunications device for the deaf (TDD) may call the Federal Information Relay Service (FIRS) at 1-800-877-8339.

Individuals with disabilities may obtain this document in an alternative format (e.g., Braille, large print, audiotape, or computer diskette) upon request to the contact person listed under For Applications and Further Information Contact. Individuals with disabilities may obtain a copy of the application package in an alternative format, also, by contacting that person. However, the Department is not able to reproduce in an alternative format the standard forms included in the application package.

Electronic Access to This Document

You may view this document, as well as all other Department of Education documents published in the Federal Register in text or Adobe Portable Document Format (PDF) on the Internet at the following site: www.ed.gov/legislation/FedRegister.

To use PDF, you must have Adobe Acrobat Reader, which is available free at the previous site. If you have questions about using PDF, call the U.S. Government Printing Office toll free at 1-888-293-6498; or in the Washington, DC area at (202) 512-1530.

Note: The official version of a document is the document published in the Federal Register.

Program Authority: 20 U.S.C. 8061-8067.

Dated: May 24, 2001.
Thomas M. Corwin,
Acting Deputy Assistant Secretary for Elementary and Secondary Education.

[FR Doc. 01-13551 Filed 5-29-01; 8:45 am]

BILLING CODE 4000-01-P